FEDERAL COMMUNICATIONS COMMISSION

47 CFR Part 95

[ET Docket Nos. 16-56, 14-165, GN Docket No. 12-268; RM-11745; FCC 19-24; FR ID 1000333]

Unlicensed White Space Devices

AGENCY: Federal Communications Commission.

ACTION: Final rule; announcement of effective date.

SUMMARY: The Federal Communications Commission (Commission) announces that the Office of Management and Budget (OMB) has approved, for a period of three years, the new information collection associated with the Commission's Amendment of Part 15 of the Commission's Rules for Unlicensed White Space Devices Report and Order and Order on Reconsideration. This document is consistent with the Order, which stated that the Commission would publish a document in the Federal Register announcing OMB approval and the effective date of the rules related to the information collection.

DATES: The amendment to 47 CFR 95.2309, published at 84 FR 34792, July 19, 2019, is effective August 12, 2022.

FOR FURTHER INFORMATION CONTACT: Hugh Van Tuyl, Office of Engineering and Technology, at (202) 418-7506, or email: Hugh.VanTuyl@fcc.gov.

For additional information concerning the Paperwork Reduction Act information collection requirements, contact Nicole Ongele at (202) 418-2991 or nicole.ongele@fcc.gov.

SUPPLEMENTARY INFORMATION: This document announces that, on November 4, 2019, OMB approved, for a period of three years, the information collection requirements relating to the White Space Database rules contained in the Commission's Amendment of Part 15 of the Commission's Rules for Unlicensed White Space Devices, Order, FCC 19-24 (84 FR 34792, July 19, 2019). The OMB Control Number is 3060-0953. The Commission publishes this document as an announcement of the effective date of the information collection requirements provided at 47 CFR 95.2309.

Synopsis

As required by the Paperwork Reduction Act of 1995 (44 U.S.C. 3507), the FCC is notifying the public that it received final OMB approval on November 4, 2019, for the information collection requirements contained in the Commission's rules in 47 CFR part 95.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0953.

The foregoing notice is required by the Paperwork Reduction Act of 1995, Public Law 104-13, October 1, 1995, and 44 U.S.C. 3507.

The total annual reporting burdens and costs for the respondents are as follows:

OMB Control Number: 3060-0953.

OMB Approval Date: November 4, 2019.

OMB Expiration Date: November 30, 2022.

Title: Sections 95.2309, Frequency Coordination/Coordinator, Wireless Medical Telemetry Service.

Form Number: N/A.

Respondents: Business or other for-profit, Not-for-profit institutions.

Number of Respondents and Responses: 3,000 respondents; 3,000 responses.

Estimated Time per Response: 2-5 hours.

Frequency of Response: Recordkeeping requirement, third-party disclosure requirement and on occasion and one-time requirements.

Obligation to Respond: Required to obtain or retain benefits. The statutory authority for this information collection is contained in sections 47 U.S.C. 4(i), 302, 303(b), (c), (e), (f), (r), and 307.

Total Annual Burden: 15,000 hours.

Total Annual Cost: $750,000.

Nature and Extent of Confidentiality: No information is requested that would require assurance of confidentiality.

Privacy Act Impact Assessment: No impact(s).

Needs and Uses: On March 20, 2019, the Federal Communications Commission released a Report and Order and Order on Reconsideration, Amendment of Part 15 of the Commission's Rules for Unlicensed White Space Devices, Amendment of Part 15 of the Commission's Rules for Unlicensed Operations in the Television Bands, Repurposed 600 MHz Band, 600 MHz Guard Bands and Duplex Gap, and Channel 37; Expanding the Economic and Innovation Opportunities of Spectrum Through Incentive Auctions, ET Docket Nos. 16-56, 14-165, GN Docket No 12-268 and RM-11745, FCC 19-24. The Federal Communications Commission reinstated a white space database rule that had been inadvertently removed from part 95. Specifically, it restored the deleted rule text to a new Section 95.2309 (h), which states that parties operating WMTS networks on Channel 37 (608-614 MHz) must notify one of the white space database administrators of their operating location to obtain interference protection from white space devices.

Federal Communications Commission.
Marlene Dortch,
Secretary, Office of the Secretary.

[FR Doc. 2022-17374 Filed 8-11-22; 8:45 am]

BILLING CODE 6712-01-P